DEPARTMENT OF HEALTH AND HUMAN SERVICES

National Institutes of Health

Center for Scientific Review; Amended Notice of Meeting

Notice is hereby given of a change in the meeting of the Center for Scientific Review Special Emphasis Panel, December 10, 2003, 2 p.m. to December 10, 2003, 3 p.m., National Institute of Health, 6701 Rockledge Drive, Bethesda, MD 20892 which was published in the Federal Register on December 3, 2003, 68 FR 67690-67691.

The meeting will be held December 17, 2003. The time and location remains the same. The meeting is closed to the public.

Dated: December 10, 2003.
LaVerne Y. Stringfield,
Director, Office of Federal Advisory Committee Policy.

[FR Doc. 03-30978 Filed 12-15-03; 8:45 am]

BILLING CODE 4140-01-M